DEPARTMENT OF THE TREASURY

Office of Foreign Assets Control

Imposition of Sanctions Pursuant to Executive Order 13687 on January 2, 2015

AGENCY: Office of Foreign Assets Control, Treasury.

ACTION: Notice.

SUMMARY: The Department of the Treasury's Office of Foreign Assets Control (OFAC) is publishing the names of 10 individuals and three entities whose property and interests in property are blocked pursuant to Executive Order 13687 of January 2, 2015, “Imposing Additional Sanctions With Respect To North Korea.”

DATES: OFAC's actions described in this notice were effective January 2, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On January 2, 2015, OFAC blocked the property and interests in property of the following 10 individuals and three entities pursuant to E.O. 13687, “Imposing Additional Sanctions With Respect To North Korea”:

Individuals

1. JANG, Song Chol; DOB 12 Mar 1967; nationality Korea, North; KOMID representative in Russia (individual) [DPRK2].

2. JANG, Yong Son; DOB 20 Feb 1957; nationality Korea, North; KOMID Representative in Iran (individual) [DPRK2].

3. KANG, Ryong; DOB 21 Aug 1968; nationality Korea, North; KOMID official in Syria (individual) [DPRK2].

4. KIL, Jong Hun; DOB 20 Feb 1972; nationality Korea, North; Passport 472410022; KOMID Representative in Namibia (individual) [DPRK2].

5. KIM, Kwang Chun; DOB 20 Apr 1967; Korea Ryungseng Trading Corporation Representative in Shenyang, China (individual) [DPRK2].

6. KIM, Kwang Yon; DOB 30 Jul 1966; nationality Korea, North; Passport 563210059 (individual) [DPRK2].

7. KIM, Kyu; DOB 30 Jul 1968; nationality Korea, North; KOMID External Affairs Officer (individual) [DPRK2].

8. KIM, Yong Chol; DOB 18 Feb 1962; nationality Korea, North; KOMID Representative in Iran (individual) [DPRK2].

9. RYU, Jin; DOB 07 Aug 1965; nationality Korea, North; Passport 563410081; KOMID official in Syria (individual) [DPRK2].

10. YU, Kwang Ho; DOB 18 Oct 1956; nationality Korea, North (individual) [DPRK2].

Entities

1. RECONNAISSANCE GENERAL BUREAU (a.k.a. CHONGCH'AL CH'ONGGUK; a.k.a. KPA UNIT 586; a.k.a. “RGB”), Hyongjesan-Guyok, Pyongyang, Korea, North; Nungrado, Pyongyang, Korea, North [DPRK]. -to- RECONNAISSANCE GENERAL BUREAU (a.k.a. CHONGCH'AL CH'ONGGUK; a.k.a. KPA UNIT 586; a.k.a. “RGB”), Hyongjesan-Guyok, Pyongyang, Korea, North; Nungrado, Pyongyang, Korea, North [DPRK] [DPRK2].

2. KOREA MINING DEVELOPMENT TRADING CORPORATION (a.k.a. CHANGGWANG SINYONG CORPORATION; a.k.a. EXTERNAL TECHNOLOGY GENERAL CORPORATION; a.k.a. KOREA KUMRYONG TRADING COMPANY; a.k.a. NORTH KOREAN MINING DEVELOPMENT TRADING CORPORATION; a.k.a. “KOMID”), Central District, Pyongyang, Korea, North [NPWMD]. -to- KOREA MINING DEVELOPMENT TRADING CORPORATION (a.k.a. CHANGGWANG SINYONG CORPORATION; a.k.a. DPRKN MINING DEVELOPMENT TRADING COOPERATION; a.k.a. EXTERNAL TECHNOLOGY GENERAL CORPORATION; a.k.a. KOREA KUMRYONG TRADING COMPANY; a.k.a. KOREAN MINING AND INDUSTRIAL DEVELOPMENT CORPORATION; a.k.a. NORTH KOREAN MINING DEVELOPMENT TRADING CORPORATION; a.k.a. “KOMID”), Central District, Pyongyang, Korea, North; Beijing, China; Moscow, Russia; Tehran, Iran; Damascus, Syria [NPWMD] [DPRK2].

3. KOREA TANGUN TRADING CORPORATION, Pyongyang, Korea, North [NPWMD]. -to- KOREA TANGUN TRADING CORPORATION (a.k.a. RYUNG SENG TRADING CORPORATION; a.k.a. RYUNGSENG TRADING CORPORATION; a.k.a. RYUNGSONG TRADING CORPORATION), Pyongyang, Korea, North [NPWMD] [DPRK2].

Dated: February 19, 2015.
John Smith,
Acting Director, Office of Foreign Assets Control.

[FR Doc. 2015-05398 Filed 3-13-15; 8:45 am]

BILLING CODE 4810-AL-P